DEPARTMENT OF THE INTERIOR

Bureau of Indian Affairs

Class III Gaming, Tribal Revenue Allocation Plans, Gaming on Trust Lands

AGENCY: Bureau of Indian Affairs, Interior.

ACTION: Notice of proposed renewal of information collections under the Paperwork Reduction Act; Comment request.

SUMMARY: In compliance with the Paperwork Reduction Act of 1995, the Bureau of Indian Affairs (BIA) invites comments on three information collection requests which we plan to renew. The three collections are: Class III Gaming Procedures 25 CFR Part 291, 1076-0149; Tribal Revenue Allocation Plans 25 CFR Part 290, 1076-0152; and Gaming On Trust Lands Acquired After October 17, 1988, 25 CFR Part 292, 1076-0158.

DATES: Submit comments by June 22, 2009.

ADDRESSES: Comments should be sent to: Paula L. Hart, Office of Indian Gaming, Mail Stop 3657-MIB, 1849 C Street, NW., Washington, DC 20240.

FOR FURTHER INFORMATION CONTACT: Paula L. Hart, Telephone: (202) 219-4066, Facsimile: (202) 273-3153.

SUPPLEMENTARY INFORMATION: The Paperwork Reduction Act of 1995 provides an opportunity for interested parties to comment on proposed information collection requests. The Bureau of Indian Affairs, Office of Indian Gaming is proceeding with this public comment period as the first step in obtaining an information collection renewal from the Office of Management and Budget (OMB). Each request contains: (1) Type of review, (2) title, (3) summary of the collection, (4) respondents, (5) frequency of collection, and (6) reporting and recordkeeping requirements.

Please note that we will not sponsor nor conduct, and you need not respond to, a request for information unless we display the OMB control number and the expiration date.

Class III Gaming Procedures

OMB Control Number: 1076-0149.

Type of review: Extension of a currently-approved collection.

Title: Class III Gaming Procedures, 25 CFR Part 291.

Summary: The collection of information will ensure that the provisions of the Indian Gaming Regulatory Act (IGRA), the relevant provisions of State laws, Federal law and the trust obligations of the United States are met when federally recognized Tribes submit Class III procedures for review and approval by the Secretary of the Interior. Sections 291.4, 291.10, 291.12 and 291.15 of 25 CFR Part 291, Class III Gaming Procedures, specify the information collection requirement. An Indian Tribe must ask the Secretary to issue Class III gaming procedures. The information to be collected includes: the name of the Tribe and name of the State; Tribal documents, State documents, regulatory schemes, the proposed procedures, and other documents deemed necessary. Collection of this information is currently authorized under an approval by OMB (OMB Control Number 1076-0149). All information is collected when the Tribe makes a request for Class III gaming procedures. Annual reporting and recordkeeping burden for this collection of information is estimated to occur one time on an annual basis. The estimated number of annual requests is 12 Tribes seeking Class III gaming procedures. The estimated time to review instructions and complete each application is 320 hours. Thus, the total annual reporting and recordkeeping burden for this collection is estimated to be 3,840 hours.

Frequency of Collection: Annually.

Description of Respondents: Federally recognized Tribes.

Total Respondents: 12.

Response Hours per Application: 320.

Total Annual Burden Hours: 3,840 hours.

Tribal Revenue Allocation Plans

OMB Control Number: 1076-0152.

Type of review: Extension of a currently-approved collection.

Title: Tribal Revenue Allocation Plans, 25 CFR Part 290.

Summary: In order for Indian Tribes to distribute net gaming revenues in the form of per capita payments, information is needed by the BIA to ensure that Tribal Revenue Allocation Plans include assurances that certain statutory requirements are met, a breakdown of the specific uses to which net gaming revenues will be allocated, eligibility requirements for participation, tax liability notification, and the assurance of the protection and preservation of the per capita share of minors and legal incompetents. Sections 290.12, 290.17, 290.24 and 290.26 of 25 CFR Part 290, Tribal Revenue Allocation Plans, specify the information collection requirement. An Indian Tribe must ask the Secretary to approve a Tribal Revenue Allocation Plan. The information to be collected includes: the name of the Tribe, Tribal documents, the allocation plan, and other documents deemed necessary. Collection of this information is currently authorized under an approval by OMB (OMB Control Number 1076-0152). All information is collected when the Tribe submits a Tribal Revenue Allocation Plan. Annual reporting and recordkeeping burden for this collection of information is estimated to average between 75 and 100 hours for approximately 20 respondents, including the time for reviewing instructions, researching existing data sources, gathering and maintaining the data needed, and completing and reviewing the collection of information. Thus, the total annual reporting and recordkeeping burden for this collection is estimated to be 1,500 to 2,000 hours. We are using the higher estimate for purposes of estimating the public burden.

Frequency of Collection: Annually.

Description of Respondents: Federally recognized Tribes.

Total Respondents: 20.

Total Annual Responses: 100.

Total Annual Burden Hours: 2,000 hours.

Gaming on Trust Lands Acquired After October 17, 1988

Type of review: Extension of a currently-approved collection.

Title: Gaming on Trust Lands Acquired After October 17, 1988, 25 CFR Part 292.

OMB Control No. 1076-0158.

Summary: The collection of information will ensure that the provisions of IGRA, Federal law and the trust obligations of the United States are met when Federally recognized Tribes submit an application seeking a Secretarial determination that a gaming establishment on land acquired in trust after October 17, 1988, and not exempt under one of the other statutory exemptions to the prohibition on gaming contained in IGRA Section 20, would be in the best interest of the Indian Tribe and its members, and would not be detrimental to the surrounding community. Collection of this information is currently authorized under an approval by OMB (OMB Control Number 1076-0158). All information is collected when the Tribe makes a request for a Secretarial determination that a gaming establishment on land acquired in trust after October 17, 1988, would be in the best interest of the Indian Tribe and its members, and would not be detrimental to the surrounding community. Annually, we expect about 2 Tribes to apply, seeking a Secretarial determination that a gaming establishment on land acquired in trust after October 17, 1988, would be in the best interest of the Indian Tribe and its members, and would not be detrimental to the surrounding community. The estimated time to review instructions and complete each application is 2,000 hours. Thus, the total annual reporting and recordkeeping burden for this collection is estimated to be 4,000 hours.

Frequency of Collection: A one-time collection.

Description of Respondents: Federally recognized Tribes.

Total Annual Responses: 2.

Response Burden Hours per Application: 1,000.

Total Annual Burden Hours: 2,000 hours.

Request for Comments

The BIA solicits comments in order to:

(1) Evaluate whether the proposed collection of information is necessary for the proper performance of the functions of the bureau, including whether the information will have practical utility;

(2) Evaluate the bureau's estimate of the burden of the proposed collection of information, including the validity of the methodology and assumptions used;

(3) Enhance the quality, utility and clarity of the information to be collected; and

(4) Minimize the burden of the collection of the information on those who are to respond.

Any public comments received will be addressed in the BIA's submission of the information collect request to OMB.

It is our policy to make all comments available to the public for review at the location listed in the ADDRESSES section, room 3657, during the hours of 9 a.m.-4 p.m., EST Monday through Friday except for legal holidays. Please note that all comments received will be available for public review 2 weeks after comment period closes. Before including your address, phone number, e-mail address or other personally identifiable information, be advised that your entire comment—including your personally identifiable information—may be made public at any time. While you may request that we withhold your personally identifiable information, we cannot guarantee that we will be able to do so.

Dated: April 15, 2009.
Alvin Foster,
Deputy Chief Information Officer—Indian Affairs.

[FR Doc. E9-9267 Filed 4-21-09; 8:45 am]

BILLING CODE 4310-4N-P